FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

A.C.T. Logistics, LLC (NVO), 154-09 146th Avenue, 3rd Floor, Jamaica, NY 11434. Officers: Annie Chik, Co-President, (Qualifying Individual), Elaine Roman, Co-President/Secretary. Application Type: License Transfer.

Canyon Global Logistics, LLC (NVO & OFF), 2928-B Greens Road, Suite 100, Houston, TX 77032. Officers: Russell C. Daniel, President, (Qualifying Individual), Jared L. Jensen, Vice President. Application Type: New NVO & OFF License.

Delex Air Cargo, LLC dba DAC Services (OFF), JFK Int'l Airport, Cargo Plaza, Bldg. 87, Jamaica, NY 11430. Officers: Anna Shneyder, General Manager, (Qualifying Individual), Oleg Ardachev, President. Application Type: New OFF License.

Ever Reach Logistics Inc (NVO), 1169 Fairway Drive, Suite 202, City of Industry, CA 91789. Officer: Xiuji Zhang, President/Secretary/Treasurer, (Qualifying Individual). Application Type: New NVO.

Evergreen Cargo LLC (NVO), 11280 Sebring Drive, Cincinnati, OH 45240. Officers: Willy M. Lukanga, Member, (Qualifying Individual), Nana Kyereme, Managing Member. Application Type: New NVO License.

Heavy Logistics, Inc. dba BM Logistics (NVO & OFF), 3706 South Bannock Street, Englewood, Co 80110. Officers: Bernhard J. Maierhofer, President/Sales, (Qualifying Individual), Marta Witkowska, President/Operations/Secretary. Application Type: New NVO & OFF License.

Lidal Logistics Inc (NVO & OFF), 11301 Interchange Circle South, Miramar, FL 33025. Officer: Juan R. Sutil, President/Secretary/Treasurer, (Qualifying Individual). Application Type: New NVO & OFF License.

N.G.K. Corporation (NVO & OFF), 8120 NW 71 Street, Miami, FL 33166. Officer: Gladys E. Fisboin, President, (Qualifying Individual). Application Type: Add NVO Service.

Pegasus Worldwide Logistics NY, Inc. (NVO & OFF), 10 E. Merrick Road, Suite 204, Valley Stream, NY 11580. Officers: Arden S. Chan, Director/Secretary, (Qualifying Individual), Cooper Chao, Director/President. Application Type: New NVO & OFF License.

Premier Logistics Management LLC (NVO & OFF), 3727 59th Avenue Circle E., Ellenton, FL 34222. Officer: William A. Gross, Managing Member, (Qualifying Individual). Application Type: License Transfer.

Princeton Relocation Management, Inc. dba PRM International (OFF), 106 Galloping Hill Road, Basking Ridge, NJ 07920. Officers: Edwin F. Banfield, Jr, President/Treasurer, (Qualifying Individual), Suzanne M. Banfield, Corporate Secretary. Application Type: New OFF License.

Net Cargo LLC (NVO & OFF), 9619 NW 33 Street, Doral, FL 33172. Officers: Victor E. Segura, Managing Member/Treasurer, (Qualifying Individual), Jorge A. Paez, Managing Member/Secretary. Application Type: New NVO & OFF License.

Nobel Van Lines Inc. (NVO & OFF), 18255 NE 4th Court, Section A, North Miami Beach, FL 33162. Officer: Yaniv Dalei, President/Secretary/CFO, (Qualifying Individual). Application Type: New NVO & OFF License.

TGL New York LLC (NVO & OFF), 11 Sunrise Plaza, #307, Valley Stream, NY 11580. Officers: Vincent A. Sommella, Operations Manager, (Qualifying Individual), Vadim Nemirorskyi, Member. Application Type: New NVO & OFF.

World Wide Express LLC (NVO & OFF), 6000 NW 32 Court, Miami, FL 33142. Officers: Marius Marcinkevicius, Member/Manager, (Qualifying Individual), Jonas Vencius, Member/Manager. Application Type: Add NVO Service.

Dated: December 16, 2011.
Rachel E. Dickon,
Assistant Secretary.

[FR Doc. 2011-32712 Filed 12-21-11; 8:45 am]

BILLING CODE 6730-01-P